CORPORATION FOR NATIONAL AND COMMUNITY SERVICE

Renewal of a Currently Approved Information Collection

AGENCY: Corporation for National and Community Service.

ACTION: Notice.

SUMMARY: The Corporation for National and Community Service (hereinafter the “Corporation”), as part of its continuing effort to reduce paperwork and respondent burden, conducts a pre-clearance consultation process to provide the general public and federal agencies with an opportunity to comment on proposed and/or continuing collections of information in accordance with the Paperwork Reduction Act of 1995 (PRA95) (44 U.S.C. Sec. 3506(c)(2)(A)). This program helps to ensure that requested data can be provided in the desired format, reporting burden (time and financial resources) is minimized, collection instruments are clearly understood, and the impact of the collection on respondents can be properly assessed. Individuals who use a telecommunications device for the deaf (TTY-TDD) may call (202) 565-3472 between 8:30 a.m. and 5 p.m. Eastern Time, Monday through Friday.

The purpose of the National Conference on Volunteering and Service (NCVS) is to advance knowledge, disseminate best practices, and analyze innovation in the national service and volunteering community. This conference provides learning and networking experiences through multiple formats, and sharing of practical tools to strengthen volunteer and service driven programs. It is attended by professionals in the volunteer field—nonprofits and businesses; academic and faith-based organizations; as well as funders and government agencies.

Currently, the Corporation is soliciting comments concerning the Assessment of the National Conference on Volunteering and Service (formerly known as Conference Surveys). Through a partnership with the Points of Light Institute (POLI), each year, the Corporation assesses the satisfaction of participants with the conference's activities, and to gather feedback about the informational and other needs of conference attendees.

Copies of the information collection request can be obtained by contacting the office listed in the addresses section of this notice.

DATES: Written comments must be submitted to the individual and office listed in the Addresses section by February 14, 2011.

ADDRESSES: You may submit comments, identified by the title of the information collection activity, any of the following methods:

(1) By Mail sent to: Corporation for National and Community Service, Office of Strategy; Attention Brooke Nicholas, Room 10901B; 1201 New York Ave., NW., Washington, DC 20525.

(2) By hand delivery or by courier to the Corporation's mailroom at Room 8100 at the mail address given in paragraph (1) above, between 9 a.m. and 4 p.m. Monday through Friday, except on Federal holidays.

(3) By fax to: (202)-606-3464, Attention: Brooke Nicholas.

(4) Electronically through the Corporation's e-mail address system: Bnicholas@cns.gov. Individuals who use telecommunications devices for the deaf (TTY-TDD_ may call (202)-606-3472 between 8:30 a.m. and 5 p.m. eastern time, Monday through Friday.

FOR FURTHER INFORMATION CONTACT: Brooke Nicholas, (202)-606-6627, or by e-mail at Bnicholas@cns.gov.

SUPPLEMENTARY INFORMATION: Description: The Corporation is particularly interested in comments that:

• Evaluate the new title for the data collection. The Corporation is proposing an official title change to the Assessment of the National Conference on Volunteering and Service (formerly known as Conference Surveys).

• Evaluate whether the proposed collection of information is necessary for the proper performance of the functions of the Corporation, including whether the information will have practical utility.

• Evaluate the accuracy of the agency's estimate of the burden of the proposed collection of information, including the validity of the methodology and assumptions used.

• Enhance the quality, utility, and clarity of the information to be collected.

• Minimize the burden of the collection of information on those who are expected to respond, including the use of appropriate automated, electronic, mechanical, or other technological collection techniques or other forms of information technology (e.g., permitting electronic submissions of responses).

Background: In partnership with the Points of Light Foundation, the Corporation hosts the annual National Conference on Volunteering and Service. The conference encourages the volunteering community to share information and practices, learn new skills and establish relationships. Attendees include leaders from: Nonprofits and civic infrastructures, academic institutions, businesses and government agencies.

Data are collected using the following surveying methods as described below.

• Registration—data collected via the Conference registration system that provides demographic data on registered attendees, expectations and previous experiences.

• Workshop Survey—onsite surveys administered in a sample of Conference sessions to learn about the workshop/session experience from attendee's perspective.

• Post-Conference Surveys—online surveys administered to registered attendees, (excluding Conference exhibitors) to gather information about participation, quality and satisfaction, as well as learning and networking experiences during the Conference.

Current Action: The Corporation seeks to renew the current data collection. The estimated time burden has not increased. The current instruments are due to expire on June 30, 2011. It is estimated that 5,000 respondents may complete up to 4 separate surveys that take up to 15 minutes each.

Type of Review: Renewal.

Agency: Corporation for National and Community Service.

Title: Assessment of the National Conference on Volunteering and Service (formerly known as National Conference Surveys).

OMB Number: #3045-0128.

Frequency: Annual.

Affected Public: Individuals and households, community and faith-based organizations, non-profits, state and local government and education institutions and businesses.

Number of Respondents: 5,000.

Estimated Time per Respondent: Fifteen minutes per survey, for up to 4 surveys, including a follow-up survey for a sample of participants.

Total Burden Hours: 5,000 hours.

Total Burden Cost (capital/startup): None.

Total Annual Cost (operating/maintaining systems or purchasing services): None.

Dated: December 10, 2010.
Heather Peeler,
Chief Strategy Officer, Strategy Office.

[FR Doc. 2010-31632 Filed 12-15-10; 8:45 am]

BILLING CODE 6050-$$-P